DEPARTMENT OF HOUSING AND URBAN DEVELOPMENT

[Docket No. FR-7001-N-48]

30-Day Notice of Proposed Information Collection: Survey To Assess Operational and Capacity Status of Housing Counseling Agencies After a Disaster

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: October 1, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA_Submission@omb.eop.gov.

FOR FURTHER INFORMATION CONTACT: Inez C. Downs, Reports Management Officer, QMAC, Department of Housing and Urban Development, 451 7th Street SW, Washington, DC 20410; email Inez.C.Downs@hud.gov, or telephone 202-402-8046. This is not a toll-free number. Person with hearing or speech impairments may access this number through TTY by calling the toll-free Federal Relay Service at (800) 877-8339.

Copies of available documents submitted to OMB may be obtained from Ms. Downs.

SUPPLEMENTARY INFORMATION: This notice informs the public that HUD is seeking approval from OMB for the information collection described in Section A.

The Federal Register notice that solicited public comment on the information collection for a period of 60 days was published on May 22, 2018 at 83 FR 23719.

A. Overview of Information Collection

Title of Information Collection: Survey to Assess Operational and Capacity Status of Housing Counseling Agencies after a Disaster.

OMB Approved Number: 2502-0615.

Type of Request: Reinstatement without change of a previously approved collection.

Form Number: None.

Description of the need for the information and proposed use: This Disaster Survey collects post-disaster information needed for the Office of Housing Counseling to determine the ability of the housing counseling agencies to perform their required functions during the disaster recovery period. Responses are required from HUD participating housing counseling agencies for HUD to assess the operating and capacity status of HUD participating housing counseling agencies in the aftermath of major disasters. The information collected will help HUD to identify and provide recovery support and assistance to HUD participating housing counseling agencies and their clients. Response is mandatory.

Respondents (i.e. affected public): Not-for-profit institutions, State, Local or Tribal Government.

Estimated Number of Respondents: 100.00.

Estimated Number of Responses: 200.00.

Frequency of Response: 200.00.

Average Hours per Response: 0.50.

Total Estimated Burdens: 100.00.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: Including through the use of appropriate automated collection techniques or other forms of information technology, e.g., permitting electronic submission of responses.

HUD encourages interested parties to submit comment in response to these questions.

Authority: Section 3507 of the Paperwork Reduction Act of 1995, 44 U.S.C. Chapter 35.

Dated: August 22, 2018.
Inez C. Downs,
Department Reports Management Officer, Office of the Chief Information Officer.

[FR Doc. 2018-19001 Filed 8-30-18; 8:45 am]

BILLING CODE 4210-67-P